DEPARTMENT OF TRANSPORTATION

Federal Aviation Administration

Notice of Intent To Rule on Application To Impose and Use the Revenue From a Passenger Facility Charge (PFC) at T. F. Green State Airport, Warwick, Rhode Island, for Projects at T. F. Green State Airport, Warwick, Rhode Island; North Central State Airport, Smithfield, Rhode Island; Quonset State Airport, North Kingstown, Rhode Island; and Westerly State Airport, Westerly, Rhode Islande

AGENCY: Federal Aviation Administration (FAA), DOT.

ACTION: Notice of intent to rule on application.

SUMMARY: The FAA proposes to rule and invites public comment on the application to use the revenue from a PFC at T. F. Green State Airport under the provisions of 49 U.S.C. 40117 and part 158 of the Federal Aviation Regulations (14 CFR part 158).

DATES: Comments must be received on or before November 8, 2004.

ADDRESSES: Comments on this application may be mailed or delivered in triplicate to the FAA at the following address: Federal Aviation Administration, Airports Division, 12 New England Executive Park, Burlington, Massachusetts 01803.

In addition, one copy of any comments submitted to the FAA must be mailed or delivered to Mr. Brian C. Schattle, at the following address: Vice President Finance/CFO, Rhode Island Aviation Corporation, T. F. Green State Airport, 2000 Post Road, Warwick, Rhode Island, 02886.

Air carriers and foreign air carriers may submit copies of written comments previously provided to the Rhode Island Airport Corporation under section 158.23 of part 158 of the Federal Aviation Regulations.

FOR FURTHER INFORMATION CONTACT: Priscilla A. Scott, PFC Program Manager, Federal Aviation Administration, Airports Division, 12 New England Executive Park, Burlington, Massachusetts.

SUPPLEMENTARY INFORMATION: The FAA proposes to rule and invites public comment on the application to use the revenue from a PFC at T. F. Green State Airport under the provisions of the Aviation Safety and Capacity Expansion Act of 1990 (Title IX of the Omnibus Budget Reconciliation Act of 1990)(Public Law 101-508) and part 158 of the Federal Aviation Regulations (14 CFR part 158).

On August 20, 2004, the FAA determined that the application to use the revenue from a PFC submitted by Rhode Island Airport Corporation was substantially complete within the requirements of section 158.25 of part 158. The FAA will approve or disapprove the application, in whole or in part, no later than November 18, 2004.

The following is a brief overview of the application.

PFC Project #: 04-04-U-00-PVD.

Level of the proposed PFC: $3.00.

Charge effective date: April 1, 2008.

Estimated charge expiration date: August 1, 2012.

Total estimated PFC revenue: $19,855,000.

Brief description of proposed use projects: T.F. Green State Airport, New Airfield Maintenance Facility, Ticket Counter Expansion; North Central State Airport, Rehabilitation of Apron; Quonset State Airport, Rehabilitation of Apron; and Westerly State Airport, Rehabilitation of Apron and Taxiways B and C.

Class or classes of air carriers, which the public agency has requested to be required to collect PFCs: On demand Air Taxi/Commercial Operators (ATCO).

Any person may inspect the application in person at the FAA office listed above under FOR FURTHER INFORMATION CONTRACT.

In addition, any person may, upon request, inspect the application, notice and other documents germane to the application in person at the Rhode Island Airport Corporation.

Issued in Burlington, Massachusetts on September 21, 2004.
Vincent A. Scarano,
Manager, Airports Division, New England Region.

[FR Doc. 04-22748 Filed 10-7-04; 8:45 am]

BILLING CODE 4910-13-M